DEPARTMENT OF HEALTH AND HUMAN SERVICES

Substance Abuse and Mental Health Services Administration

Fiscal Year (FY) 2001 Funding Opportunities

AGENCY: Substance Abuse and Mental Health Services Administration (SAMHSA), HHS.

ACTION: Notice of funding availability.

SUMMARY: The Substance Abuse and Mental Health Services Administration (SAMHSA) Center for Mental Health Services (CMHS) announces the availability of FY 2001 funds for cooperative agreements for the following activity. This notice is not a complete description of the activity; potential applicants must obtain a copy of the Guidance for Applicants (GFA), including Part I, Coordinating Center for Cooperative Agreements to Evaluate Housing Approaches for Persons with Serious Mental Illness-Phase II, and Part II, General Policies and Procedures Applicable to all SAMHSA Applications for Discretionary Grants and Cooperative Agreements, before preparing and submitting an application.

Eligibility: Eligibility is limited to the currently funded Housing Initiative Coordinating Center, operated by the Vanderbilt University Institute for Public Policy Studies (VIPPS) in Nashville, Tennessee, simply referred to as the VIPPS Coordinating Center (VIPPSCC). The VIPPSCC is uniquely positioned to perform these tasks effectively with the additional funds and without the need for the usual start-up time.

Availability of Funds: It is estimated that up to $500,000 (direct and indirect costs) will be available to support this basic award under this GFA in FY2001. Actual funding level will depend upon the availability of appropriated funds and the applicant's budget justification.

Period of Support: Support may be requested for up to one year.

Catalog of Federal Domestic Assistance Number: 93.230.

Program Contact: For questions concerning program issues, contact: Pamela J. Fischer, Ph.D., Homeless Programs Branch, Center for Mental Health Services, Substance Abuse and Mental Health Services Administration, 5600 Fishers Lane, Room 11C-05, Rockville, MD 20857, (301) 443-3706, E-Mail: pfischer@samhsa.gov.

Questions on grants management issues should be directed to: Steve Hudak, Division of Grants Management, OPS, Substance Abuse and Mental Health Services Administration, 5600 Fishers Lane, Room 13-103, Rockville, MD 20857, (301) 443-4456, E-Mail: shudak@samhsa.gov.

Dated: April 9, 2001.
Richard Kopanda,
Executive Officer, Substance Abuse and Mental Health Services Administration.

[FR Doc. 01-9164 Filed 4-12-01; 8:45 am]

BILLING CODE 4162-20-P